DEPARTMENT OF ENERGY

Federal Energy Regulatory Commission

[Docket No. CP02-81-000]

Natural Gas Pipeline Company of America; Notice of Abandonment Application

February 12, 2002.

On February 7, 2002, Natural Gas Pipeline Company of America (Natural), 747 East 22nd Street, Lombard, Illinois, 60148, filed an application in Docket No. CP02-81-000 pursuant to section 7(b) of the Natural Gas Act (NGA) for permission and approval to abandon certain facilities as detailed below, by sale to Prism Gas Systems, Inc. (Prism) and Panther Pipeline, Ltd. (Panther), two non-jurisdictional gathering companies (which are each to own a fifty percent (50%) interest in the facilities to be abandoned). The application also requests that the Commission determine that the facilities to be sold to Prism and Panther, and the services rendered by means of such facilities, are non-jurisdictional gathering facilities and services, and will be exempt from the Commission's jurisdiction under the NGA, all as more fully set forth in the application which is on file with the Commission and open to public inspection. Copies of this filing are on file with the Commission and are available for public inspection. This filing may be viewed on the web at http://www.ferc.gov using the “RIMS” link, select “Docket #” from follow the instructions (call (202)208-2222 for assistance).

Any questions regarding this application should be directed to James J. McElligott, Senior Vice President, Natural Gas Pipeline Company of America, 747 East 22nd Street, Lombard, Illinois 60148, at (630) 691-3525 or Philip R. Telleen, Esq. at (630) 691-3749.

Specifically, Natural requests authorization to abandon by sale the following:

(1) 26.70 miles of 16-inch diameter offshore and related onshore pipeline and appurtenances originating at the High Island (HI) Block 71A Platform Offshore Texas and terminating onshore near a connection with Natural's 30-inch Louisiana No. 1 Mainline in Jefferson County, Texas including a forty (40) foot portion of 12-inch line in HI Block 48 (HI 71A Lateral), a dual 8-inch meter and appurtenances located on the HI Block 71A Platform Offshore Texas, a dual 8-inch meter and appurtenances located onshore at Natural's Booster Station No. 344 (BS 344) in Jefferson County, Texas, two 12-inch subsea taps located in HI Block 11 and HI Block 48 (all authorized in Docket No. CP72-233), and two (2) 12-inch taps in HI Block 48 and an 8-inch tap in HI Block 71 all authorized in CP82-402 (HI 71A Facilities);

(2) 26.36 miles of 16-inch diameter offshore pipeline and appurtenances originating at the HI Block 139A Platform Offshore Texas and terminating at a 12-inch subsea tie-in tap in HI Block 48 (HI 139A Lateral), a dual 8-inch meter and appurtenances located on the HI Block 139 Platform Offshore Texas, three (3) 12-inch subsea taps in HI Block 51, HI Block 93 and HI Block 109 (authorized in Docket No. CP80-252), and an 8-inch subsea tap in HI Block 68 authorized in Docket No. CP82-402 (HI 139A Facilities);

(3) 3.12 miles of 20-inch onshore pipeline and appurtenances originating near Natural's BS 344 in Jefferson County, Texas and terminating near a connection with Natural's 30-inch Louisiana No. 2 in Jefferson County, Texas (Sabine Pass Lateral) and a dual 12-inch meter and appurtenances located at BS 344 (all authorized in Docket No. CP80-86, as amended) (Sabine Pass Facilities).

There are two ways to become involved in the Commission's review of this abandonment. First, any person wishing to obtain legal status by becoming a party to the proceedings for this abandonment should, on or before March 5, 2002, file with the Federal Energy Regulatory Commission, 888 First Street, NE, Washington, DC 20426, a motion to intervene in accordance with the requirements of the Commission's rules of practice and procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this abandonment. The Commission will consider these comments in determining the appropriate action to be taken, but the filing of a comment alone will not serve to make the filer a party to the proceeding. The Commission's rules require that persons filing comments in opposition to the abandonment provide copies of their protests only to the party or parties directly involved in the protest.

Persons who wish to comment only on the environmental review of this abandonment should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying abandonment will be issued.

Magalie R. Salas,
Secretary.

[FR Doc. 02-3907 Filed 2-15-02; 8:45 am]

BILLING CODE 6717-01-P